DEPARTMENT OF COMMERCE

International Trade Administration

[A-570-904]

Certain Activated Carbon From the People's Republic of China: Notice of Partial Rescission of Antidumping Duty Administrative Review

AGENCY: Import Administration, International Trade Administration, Department of Commerce.

EFFECTIVE DATE: September 16, 2009.

FOR FURTHER INFORMATION CONTACT: Katie Marksberry, AD/CVD Operations, Office 9, Import Administration, International Trade Administration, U.S. Department of Commerce, 14th Street and Constitution Avenue, NW, Washington DC 20230; telephone- (202) 482-7906.

SUPPLEMENTARY INFORMATION:

Background

On May 29, 2009, the Department of Commerce (“Department”) published a notice of initiation of an administrative review of the antidumping duty order on certain activated carbon from the People's Republic of China (“PRC”) covering the period, April 1, 2008 March 31, 2009. See Initiation of Antidumping and Countervailing Duty Administrative Reviews, 74 FR 25711 (May 29, 2009) (“Initiation”). On June 18, 2009, Calgon Carbon Corporation and Norit Americas Inc. (collectively known as, “Petitioners”) withdrew their request for a review of 155 companies, and on July 2, 2009, the Department published a notice of partial rescission of the antidumping duty order on certain activated carbon for those companies. See Certain Activated Carbon from the People's Republic of China: Notice of Partial Rescission of Antidumping Duty Administrative Review, 74 FR 31690 (July 2, 2009).

On August 19, 2009, respondent Calgon Carbon Tianjin Co., Ltd. (“CCT”) withdrew its request for review. On August 21, 2009, Petitioners withdrew their request for an administrative review for CCT and the following additional 12 companies: Datong Forward Activated Carbon Co., Ltd.; Datong Guanghua Activated Co., Ltd.; Datong Locomotive Coal & Chemicals Co., Ltd.; Huairen Jinbei Chemicals Co., Ltd.; Jilin Province Bright Future Industry and Commerce Co., Ltd.; Nuclear Ningxia Activated Carbon Co., Ltd.; Pingluo Yu Yang Activated Carbon Co., Ltd.; Shanxi Sincere Industrial Co., Ltd.; Shanxi Xuanzhong Chemical Industry Co., Ltd.; Tiangjin Maijin Industries Co., Ltd.; Xi'an Shuntong International Trade & Industries Co., Ltd.; and Xingtai Coal Chemical Co., Ltd. With the exception of CCT, which withdrew its request for review, as noted above, Petitioners were the only party to request a review of these companies.

Partial Rescission

Pursuant to 19 CFR 351.213(d)(1), the Secretary will rescind an administrative review, in whole or in part, if a party who requested the review withdraws the request within 90 days of the date of publication of notice of initiation of the requested review. CCT and Petitioners' requests were submitted within the 90-day period, and thus are timely. Because CCT and Petitioners' withdrawal of requests for review are timely and because there is no longer a review request for the above-mentioned companies, in accordance with 19 CFR 351.213(d)(1), we are rescinding this review with respect to the above listed companies.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: September 8, 2009.
John M. Andersen,
Acting Deputy Assistant Secretary for Antidumping and Countervailing Duty Operations.

[FR Doc. E9-22337 Filed 9-16-04; 8:45 am]

BILLING CODE 3510-DS-S